DEPARTMENT OF ENERGY

Federal Energy Regulatory Commission

Combined Notice of Filings #1

Take notice that the Commission received the following exempt wholesale generator filings:

Docket Numbers: EG22-215-000.

Applicants: Eastover Solar LLC.

Description: Eastover Solar LLC submits notice of Self-Certification of Exempt Wholesale Generator.

Filed Date: 9/8/22.

Accession Number: 20220908-5070.

Comment Date: 5 p.m. ET 9/29/22.

Docket Numbers: EG22-216-000.

Applicants: PGR 2021 Lessee 17, LLC.

Description: PGR 2021 Lessee 17, LLC submits notice of Self-Certification of Exempt Wholesale Generator.

Filed Date: 9/8/22.

Accession Number: 20220908-5074.

Comment Date: 5 p.m. ET 9/29/22.

Take notice that the Commission received the following electric rate filings:

Docket Numbers: ER10-2211-008.

Applicants: Vandolah Power Company, L.L.C.

Description: Notice of Non-Material Change in Status of Vandolah Power Company, L.L.C.

Filed Date: 9/8/22.

Accession Number: 20220908-5078.

Comment Date: 5 p.m. ET 9/29/22.

Docket Numbers: ER21-291-002.

Applicants: Public Service Company of Colorado.

Description: Compliance filing: 2022-09-08_PSCo Transmission Formula Rate-Compliance to be effective 1/1/2021.

Filed Date: 9/8/22.

Accession Number: 20220908-5064.

Comment Date: 5 p.m. ET 9/29/22.

Docket Numbers: ER22-2148-001.

Applicants: Blooming Grove Wind Energy Center LLC.

Description: Tariff Amendment: Reactive Power Compensation to be effective 6/18/2022.

Filed Date: 9/8/22.

Accession Number: 20220908-5075.

Comment Date: 5 p.m. ET 9/29/22.

Docket Numbers: ER22-2811-000.

Applicants: Duke Energy Florida, LLC.

Description: § 205(d) Rate Filing: DEF-Bartow FMPP FMPA Dynamic Transfer Agreement RS No. 378 to be effective 11/7/2022.

Filed Date: 9/7/22.

Accession Number: 20220907-5100.

Comment Date: 5 p.m. ET 9/28/22.

Docket Numbers: ER22-2812-000.

Applicants: New England States Committee on Electricity.

Description: New England States Committee on Electricity submits for information a Five-Year Pro Forma Budget for years 2023-2027.

Filed Date: 9/6/22.

Accession Number: 20220906-5221.

Comment Date: 5 p.m. ET 9/27/22.

Docket Numbers: ER22-2813-000.

Applicants: Southwest Power Pool, Inc.

Description: § 205(d) Rate Filing: Revisions to the Membership Agreement to Revise Sections 1.0 and 4.2 to be effective 11/8/2022.

Filed Date: 9/8/22.

Accession Number: 20220908-5035.

Comment Date: 5 p.m. ET 9/29/22.

Docket Numbers: ER22-2814-000.

Applicants: Southwest Power Pool, Inc.

Description: § 205(d) Rate Filing: Revisions to Bylaws to Clarify Membership on the Regional State Committee to be effective 11/8/2022.

Filed Date: 9/8/22.

Accession Number: 20220908-5046.

Comment Date: 5 p.m. ET 9/29/22.

Docket Numbers: ER22-2816-000.

Applicants: PGR 2021 Lessee 17, LLC.

Description: Baseline eTariff Filing: PGR 2021 Lessee 17, LLC MBR Tariff to be effective 10/31/2022.

Filed Date: 9/8/22.

Accession Number: 20220908-5082.

Comment Date: 5 p.m. ET 9/29/22.

Docket Numbers: ER22-2817-000.

Applicants: Eastover Solar LLC.

Description: Baseline eTariff Filing: Eastover Solar LLC MBR Tariff to be effective 10/31/2022.

Filed Date: 9/8/22.

Accession Number: 20220908-5084.

Comment Date: 5 p.m. ET 9/29/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2022.
Kimberly D. Bose,
Secretary.

[FR Doc. 2022-19923 Filed 9-14-22; 8:45 am]

BILLING CODE 6717-01-P